DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 25, 2015.
Roy E. Wright,
Deputy Associate Administrator for Insurance and Mitigation, Department of Homeland Security, Federal Emergency Management Agency.

State and county | Location and case No. | Chief executive officer of community | Community map repository | Effective date of modification | Community No.
Alabama: Shelby (FEMA Docket No.: B-1505) | Unincorporated areas of Shelby County (14-04-A927P) | The Honorable Rick Shepherd, Chairman, Shelby County Board of Commissioners, 200 West College Street, Columbiana, AL 35051 | Shelby County Engineer's Office, 506 Highway 70, Columbiana, AL 35051 | June 1, 2015 | 010191
Colorado:
Douglas (FEMA Docket No.: B-1508) | Unincorporated areas of Douglas County (14-08-0892P) | The Honorable Jill Repella, Chair, Douglas County Board of Commissioners, 100 3rd Street, Castle Rock, CO 80104 | Douglas County Public Works Department, Engineering Division, 100 3rd Street, Castle Rock, CO 80104 | June 12, 2015 | 080049
Ouray (FEMA Docket No.: B-1505) | Town of Ridgway (14-08-1315P) | The Honorable John Clark, Mayor, Town of Ridgway, P.O. Box 10, Ridgway, CO 81432 | Town Hall, 201 North Railroad Street, Ridgway, CO 81432 | May 29, 2015 | 080138
Florida
Manatee (FEMA Docket No.: B-1505) | Unincorporated areas of Manatee County (14-04-8724P) | The Honorable Larry Bustle, Chairman, Manatee County Board of Commissioners, 1112 Manatee Avenue West, 9th Floor, Bradenton, FL 34205 | Manatee County Building and Development Services Department, 1112 Manatee Avenue, West Bradenton, FL 34205 | June 5, 2015 | 120153
Monroe (FEMA Docket No.: B-1508) | City of Key West (14-04-A505P) | The Honorable Craig Cates, Mayor, City of Key West, 3126 Flagler Avenue, Key West, FL 33040 | Planning Department, 605A Simonton Street, Key West, FL 33040 | June 5, 2015 | 120168
Georgia: Columbia (FEMA Docket No.: B-1505) | Unincorporated areas of Columbia County (15-04-1887P) | The Honorable Ron C. Cross, Chairman, Columbia County Board of Commissioners, P.O. Box 498, Evans, GA 30809 | Columbia County Planning Department, 603 Ronald Reagan Drive, Building B, 1st Floor, Evans, GA 30809 | May 28, 2015 | 130059
Kentucky:
Scott (FEMA Docket No.: B-1505) | City of Georgetown (14-04-4874P) | The Honorable Everett Varney, Mayor, City of Georgetown, 100 Court Street, Georgetown, KY 40324 | Planning Commission, 230 East Main Street, Georgetown, KY 40324 | May 29, 2015 | 210208
Scott (FEMA Docket No.: B-1505) | Unincorporated areas of Scott County (14-04-4874P) | The Honorable George Lusby, Scott County Judge, 101 East Main Street, Georgetown, KY 40324 | Scott County Building Inspections Department, 100 Court Street, Georgetown, KY 40324 | May 29, 2015 | 210207
Louisiana: Rapides (FEMA Docket No.: B-1509) | City of Alexandria (14-06-4775P) | The Honorable Jacques M. Roy, Mayor, City of Alexandria, P.O. Box 71, Alexandria, LA 71309 | City Hall, 915 3rd Street, Alexandria, LA 71301 | May 21, 2015 | 220146
Montana: Ravalli (FEMA Docket No.: B-1505) | Unincorporated areas of Ravalli County (15-08-0109P) | The Honorable Jeff Burrows, Chairman, Ravalli County Board of Commissioners, 215 South 4th Street, Suite A, Hamilton, MT 59840 | Floodplain Map Repository, 215 South 4th Street, Suite A, Hamilton, MT 59840 | June 8, 2015 | 300061
New Mexico: Bernalillo (FEMA Docket No.: B-1509) | Unincorporated areas of Bernalillo County (14-06-0924P) | The Honorable Maggie Hart Stebbins, Chair, Bernalillo County Board of Commissioners, 1 Civic Plaza Northwest, Albuquerque, NM 87102 | Bernalillo County Planning and Development Division, 111 Union Square Southeast, Suite 100, Albuquerque, NM 87102 | May 12, 2015 | 350001
North Carolina:
Cabarrus (FEMA Docket No.: B-1505) | City of Harrisburg (14-04-6011P) | The Honorable Steve Sciascia, Mayor, Town of Harrisburg, 4100 Mail Street, Harrisburg, NC 28075 | Planning Department, 4100 Main Street, Harrisburg, NC 28075 | February 26, 2015 | 370038
Durham (FEMA Docket No.: B-1505) | City of Durham (14-04-4200P) | The Honorable William V. Bell, Mayor, City of Durham, 101 City Hall Plaza, Durham, NC 27701 | Public Works Department, 101 City Hall Plaza, Durham, NC 27701 | February 17, 2015 | 370086
Guilford (FEMA Docket No.: B-1508) | City of Greensboro (14-04-9100P) | The Honorable Nancy Vaughan, Mayor, City of Greensboro, P.O. Box 3136, Greensboro, NC 27402 | Central Library, 219 North Church Street, Greensboro, NC 27401 | June 26, 2015 | 375351
Iredell (FEMA Docket No.: B-1464) | Town of Mooresville (14-04-4151P) | The Honorable Miles Atkins, Mayor, Town of Mooresville, 413 North Main Street, Mooresville, NC 28115 | Planning Department, 413 North Main Street, Mooresville, NC 28115 | March 5, 2015 | 370314
Union (FEMA Docket No.: B-1508) | Town of Weddington (14-04-7777P) | The Honorable Bill Deter, Mayor, Town of Weddington, 1924 Weddington Road, Weddington, NC 28104 | Planning Department, 1924 Weddington Road, Weddington, NC 28104 | June 22, 2015 | 370518
Union (FEMA Docket No.: B-1508) | Unincorporated areas of Union County (14-04-7777P) | The Honorable Richard Helms, Chairman, Union County Board of Commissioners, 500 North Main Street, Room 921, Monroe, NC 28112 | Union County Planning Department, 500 Main Street, Monroe, NC 28112 | June 22, 2015 | 370234
Ohio:
Franklin (FEMA Docket No.: B-1509) | City of Columbus (14-05-8003P) | The Honorable Michael B. Coleman, Mayor, City of Columbus, 90 West Broad Street, 2nd Floor, Columbus, OH 43215 | Department of Public Utilities, 1250 Fairwood Avenue, Columbus, OH 43206 | April 22, 2015 | 390170
Franklin (FEMA Docket No.: B-1509) | City of Hilliard (14-05-8003P) | The Honorable Don Schonhardt, Mayor, City of Hilliard, 5171 Northwest Parkway, Hilliard, OH 43026 | City Hall, 3800 Municipal Way, Hilliard, OH 43026 | April 22, 2015 | 390175
Franklin (FEMA Docket No.: B-1509) | Unincorporated areas of Franklin County (14-05-8003P) | The Honorable Marilyn Brown, President, Franklin County Board of Commissioners, 373 South High Street, 26th Floor, Columbus, OH 43215 | Franklin County Economic Development and Planning Department, 150 South Front Street, Suite 10, Columbus, OH 43215 | April 22, 2015 | 390167
South Carolina:
Beaufort (FEMA Docket No.: B-1505) | Town of Bluffton (15-04-2707P) | The Honorable Lisa Sulka, Mayor, Town of Bluffton, 20 Bridge Street, Bluffton, SC 29910 | Growth Management Customer Service Center, 20 Bridge Street, Bluffton, SC 29910 | June 5, 2015 | 450251
Charleston (FEMA Docket No.: B-1505) | Town of Mount Pleasant (15-04-0360P) | The Honorable Linda Page Mayor, Town of Mount Pleasant, 100 Ann Edwards Lane, Mount Pleasant, SC 29464 | Town Hall, 100 Ann Edwards Lane, Mount Pleasant, SC 29464 | June 1, 2015 | 455417
Texas:
Bexar (FEMA Docket No.: B-1506) | City of San Antonio (14-06-0780P) | The Honorable Ivy R. Taylor, Mayor, City of San Antonio, P.O. Box 839966, San Antonio, TX 78283 | Storm Water Division, 1901 South Alamo Street, 2nd Floor, San Antonio, TX 78204 | May 6, 2015 | 480045
Bexar (FEMA Docket No.: B-1506) | City of San Antonio (15-06-0882X) | The Honorable Ivy R. Taylor, Mayor, City of San Antonio, P.O. Box 839966, San Antonio, TX 78283 | Storm Water Division, 1901 South Alamo Street, 2nd Floor, San Antonio, TX 78204 | May 6, 2015 | 480045
Dallas (FEMA Docket No.: B-1506) | City of Lancaster (14-06-3046P) | The Honorable Marcus E. Knight, Mayor, City of Lancaster, P.O. Box 940, Lancaster, TX 75146 | City Hall, 211 North Henry Street, Lancaster, TX 75146 | June 1, 2015 | 480182
Denton (FEMA Docket No.: B-1506) | City of Frisco (14-06-3421P) | The Honorable Maher Maso, Mayor, City of Frisco, 6101 Frisco Square Boulevard, Frisco, TX 75034 | City Hall, 6101 Frisco Square Boulevard, Frisco, TX 75034 | May 4, 2015 | 480134
Denton (FEMA Docket No.: B-1506) | Town of Little Elm (14-06-3421P) | The Honorable David Hillock, Mayor, Town of Little Elm, 100 West Eldorado Parkway, Little Elm, TX 75068 | Town Hall, 100 West Eldorado Parkway, Little Elm, TX 75068 | May 4, 2015 | 481152
Caldwell (FEMA Docket No.: B-1506) | City of Martindale (13-06-3462P) | The Honorable Doyle Mosier, Mayor, City of Martindale, P.O. Box 365, Martindale, TX 78655 | City Hall, 409 Main Street, Martindale, TX 78655 | May 15, 2015 | 481587
Caldwell (FEMA Docket No.: B-1506) | Unincorporated areas of Caldwell County (13-06-3462P) | The Honorable Ken Schawe, Caldwell County Judge, 110 South Main Street, Room 201, Lockhart, TX 78644 | Caldwell County, Emergency Management Office, 110 South Main Street, Lockhart, TX 78644 | May 15, 2015 | 480094
Guadalupe (FEMA Docket No.: B-1506) | Unincorporated areas of Guadalupe County (13-06-3462P) | The Honorable Kyle Kutscher, Guadalupe County Judge, 211 West Court Street, Seguin, TX 78155 | Guadalupe County, Emergency Management Office, 415 East Donegan Street, Seguin, TX 78155 | May 15, 2015 | 480266
Harris (FEMA Docket No.: B-1506) | Unincorporated areas of Harris County (15-06-0108P) | The Honorable Ed M. Emmett, Harris County Judge, 1001 Preston Street, Suite 911, Houston, TX 77002 | Harris County, Emergency Management Office, 1001 Preston Street, Houston, TX 77002 | May 18, 2015 | 480287
Tarrant (FEMA Docket No.: B-1506) | City of Fort Worth (14-06-4247P) | The Honorable Betsy Price, Mayor, City of Fort Worth, 1000 Throckmorton Street, Fort Worth, TX 76102 | Public Works Department, 1000 Throckmorton Street, Fort Worth, TX 76102 | May 22, 2015 | 480596
Tarrant (FEMA Docket No.: B-1506) | City of Keller (14-06-4310P) | The Honorable Mark Mathews, Mayor, City of Keller, P.O. Box 770, Keller, TX 76244 | Public Works Department, 1100 Bear Creek Parkway, Keller, TX 76248 | June 6, 2015 | 480602
Utah:
Davis (FEMA Docket No.: B-1508) | City of Fruit Heights (14-08-1211P) | The Honorable Don Carroll, Mayor, City of Fruit Heights, 910 South Mountain Road, Fruit Heights, UT 84037 | City Hall, 910 South Mountain Road, Fruit Heights, UT 84307 | June 5, 2015 | 490045
Davis (FEMA Docket No.: B-1508) | City of Kaysville (14-08-1178P) | The Honorable Steve A. Hiatt, Mayor, City of Kaysville, 23 East Center Street, Kaysville, UT 84037 | City Hall, 23 East Center Street, Kaysville, UT 84037 | June 5, 2015 | 490046
Davis (FEMA Docket No.: B-1508) | City of Kaysville (14-08-1211P) | The Honorable Steve A. Hiatt, Mayor, City of Kaysville, 23 East Center Street, Kaysville, UT 84037 | City Hall, 23 East Center Street, Kaysville, UT 84037 | June 5, 2015 | 490046
Virginia:
Albemarle (FEMA Docket No.: B-1506) | Unincorporated areas of Albemarle County (14-03-0864P) | The Honorable Thomas C. Foley, Albemarle County Executive, 401 Mclntire Road, Charlottesville, VA 22902 | Albemarle County Department of Community Development, 401 Mclntire Road, Charlottesville, VA 22902 | June 3, 2015 | 510006
Fairfax (FEMA Docket No.: B-1506) | Unincorporated areas of Fairfax County (15-03-0079P) | The Honorable Edward L. Long, Jr., Fairfax County Executive, 12000 Government Center Parkway, Fairfax, VA 22035 | Fairfax County, Stormwater Planning Division, 12000 Government Center Parkway, Fairfax, VA 22035 | June 5, 2015 | 510525
Frederick (FEMA Docket No.: B-1506) | City of Winchester (14-03-2926P) | The Honorable Eden Freeman, Manager, City of Winchester, 15 North Cameron Street, Winchester, VA 22601 | Department of Public Services, 15 North Cameron Street, Winchester, VA 22601 | May 21, 2015 | 510173
Loudoun (FEMA Docket No.: B-1506) | Town of Leesburg (14-03-1706P) | The Honorable Kristen C. Umstattd, Mayor, Town of Leesburg, 25 West Market Street, Leesburg, VA 20176 | Town Hall, 25 West Market Street, Leesburg, VA 20176 | May 14, 2015 | 510091
Loudoun (FEMA Docket No.: B-1506) | Unincorporated areas of Loudoun County (14-03-1706P) | The Honorable Scott K. York, Chairman-at-Large, Loudoun County Board of Supervisors, P.O. Box 7000, Leesburg, VA 20177 | Loudoun County Building and Development, Department 1 Harrison Street Southeast, Leesburg, VA 20175 | May 14, 2015 | 510090

[FR Doc. 2015-18283 Filed 7-24-15; 8:45 am]

BILLING CODE 9110-12-P